DEPARTMENT OF COMMERCE

National Oceanic and Atmospheric Administration

[I.D.090506A]

Marine Mammals; File No. 774-1847

AGENCY: National Marine Fisheries Service (NMFS), National Oceanic and Atmospheric Administration (NOAA), Commerce.

ACTION: Notice; issuance of permit.

SUMMARY: Notice is hereby given that NMFS Southwest Fisheries Science Center, Antarctic Marine Living Resources Program (Rennie Holt, Ph.D., Principal Investigator), 8604 La Jolla Shores Drive, La Jolla, CA 92037 has been issued a permit to conduct research on Antarctic fur seals (Arctocephalus gazella) and leopard seals (Hydrurga leptonyx).

ADDRESSES: The permit and related documents are available for review upon written request or by appointment in the following office(s):

Permits, Conservation and Education Division, Office of Protected Resources, NMFS, 1315 East-West Highway, Room 13705, Silver Spring, MD 20910; phone (301)713-2289; fax (301)427-2521; and

Southwest Region, NMFS, 501 West Ocean Blvd., Suite 4200, Long Beach, CA 90802-4213; phone (562)980-4001; fax (562)980-4018.

FOR FURTHER INFORMATION CONTACT: Kate Swails or Tammy Adams, (301)713-2289.

SUPPLEMENTARY INFORMATION: On June 19, 2006, notice was published in the Federal Register (71 FR 35255) that a request for a scientific research permit to take Antarctic fur seals and leopard seals had been submitted by the above-named individual. The requested permit has been issued under the authority of the Marine Mammal Protection Act of 1972, as amended (16 U.S.C. 1361 et seq.), and the regulations governing the taking and importing of marine mammals (50 CFR part 216).

The applicant will continue a long-term ecosystem monitoring program of pinniped species in the South Shetland Islands, Antarctica. The target species of the study are the Antarctic fur seals and leopard seals, but southern elephant seals (Mirounga leonine), crabeater seals (Lobodon carcinophagus), Ross seals (Ommatophoca rossii) and Weddell seals (Leptonychotes weddellii) could be disturbed by the life history studies and census surveys.

The applicant will take up to 710 Antarctic fur seals and 20 leopard seals annually. The animals will be captured, measured, weighed, tagged, blood sampled, and have time-depth recorders, VHF transmitters, and platform terminal transmitters attached. A subset of fur seals will be given an enema, have a tooth extracted, milk sampled, and be part of a doubly-labeled water study on energetics. A subset of leopard seals will be blubber and muscle sampled. The permit authorizes the research-related mortality of up to three Antarctic fur seals and one leopard seal annually.

In compliance with the National Environmental Policy Act of 1969 (42 U.S.C. 4321 et seq.), a final determination has been made that the activity proposed is categorically excluded from the requirement to prepare an environmental assessment or environmental impact statement.

Dated: September 5, 2006.
P. Michael Payne,
Chief, Permits, Conservation and Education Division, Office of Protected Resources, National Marine Fisheries Service.

[FR Doc. E6-14987 Filed 9-8-06; 8:45 am]

BILLING CODE 3510-22-S